DEPARTMENT OF THE INTERIOR

Bureau of Land management

[OR-120: GP0-0306]

Availability of the Record of Decision for the Bal'diyaka Interpretive Center

AGENCY: Bureau of Land Management.

ACTION: Notice of Availability of the Record of Decision for the Bal'diyaka Interpretive Center

SUMMARY: Pursuant to section 102(2)(C) of the National Environmental Policy Act of 1969 (NEPA), the Coos Bay District of the Bureau of Land Management (BLM), in cooperation with the Confederated Tribes of Coos, Lower Umpqua, and Siuslaw Indians (Confederated Tribes) had an Environmental Impact Statement prepared to address impacts of constructing and operating the Bal'diyaka Interpretive Center in Coos County, Oregon.

The BLM, in partnership with the Confederated Tribes has chosen the No Action Alternative for this project since current budgets will not support the cost of construction and operation of the Bal'diyaka Interpretive Center as described in the Proposed Action of the subject EIS. The No Action Alternative will leave the three action alternative sites in their original condition, will not foreclose future management options at these sites, and will not impact current budgets.

The Proposed Action in the EIS was to locate the Bal'diyaka Interpretive Center on Gregory Point, which is an approximately 30-acre headland area north of Sunset Bay, west of Cape Arago Highway and south of Lighthouse Way.

A total of four alternatives were explored in the EIS: the No Action Alternative, the Proposed Action, and two alternative locations.

Copies of the Record of Decision will be available for review at the Coos Bay and North Bend Public Libraries, upon request from the BLM, Coos Bay District Office, 1300 Airport Lane, North Bend, OR 97459-2000, and the office of the Confederated Tribes of Coos, Lower Umpqua, and Siuslaw Indians at 1245 Fulton Avenue, Coos Bay, OR 97420.

DATES: The Record of Decision will be available to the public starting August 14, 2000. An appeal period of 30 days will begin with the printing of the Notice of Availability in the Federal Register.

FOR FURTHER INFORMATION CONTACT: Bureau of Land Management, Steven Fowler, Area Manager, 1300 Airport Lane, North Bend, OR 97459-2000.

Sue Richardson,
District Manager, Coos Bay District.

[FR Doc. 00-21696 Filed 8-24-00; 8:45 am]

BILLING CODE 4310-33-P